CORPORATION FOR NATIONAL AND COMMUNITY SERVICE

Reinstatement With Change of a Previously Approved Collection for Which Approval Has Expired; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. Eastern time, Monday through Friday.

Currently, the Corporation is soliciting comments concerning the reinstatement with changes, of a previously approved information collection activity, which has expired. The Accomplishments Surveys of National Senior Service Corps Programs (reference OMB Control Number 3045-0049) expired on 8/31/2001. This request for reinstatement with changes reflects the Corporation's intent to conduct Accomplishment Surveys for its three National Senior Service Corps programs: the Foster Grandparent Program, the Senior Companion Program, and the Retired and Senior Volunteer Program.

Copies of the information collection request can be obtained by contacting the office listed below in the ADDRESSES section of this notice.

DATES: Written comments must be submitted to the office listed in the ADDRESSES section by January 5, 2004.

ADDRESSES: Send comments to: Corporation for National and Community Service, Attn. Nathan Dietz, Department of Research and Policy Development, 1201 New York Avenue, NW., Washington, DC, 20525.

FOR FURTHER INFORMATION CONTACT: Nathan Dietz, (202) 606-5000, ext. 287, or by e-mail at ndietz@cns.gov.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and,

• Minimize the burden of the collection of information on those who are to respond, including through the use of appropriate automated, electronic, mechanical, or other technological collection techniques or other forms of information technology, e.g., permitting electronic submissions of responses.

SUPPLEMENTARY INFORMATION: The Corporation seeks to reinstate its previously used Accomplishments Survey to collect information about local project volunteer activities, inputs, and accomplishments. This study will be conducted under contract with Westat, Inc. (#CNCSHQC03003, Task Order #WES03T001). This information will be used by the Corporation to prepare its Annual Performance Reports, and to respond to ad hoc requests from Congress and other interested parties. The prior versions of these surveys were used most recently during the 1999-2000 program year.

The revised Accomplishment Surveys for National Senior Service Corps Programs will be distributed to samples of volunteer work stations for each program. Local grantees, or projects, place volunteers in local organizational settings where they are supervised by organizational staff. These work station volunteer supervisors will complete the survey.

Type of Review: Reinstatement, with change, of a previously approved collection for which approval has expired.

Agency: Corporation for National and Community Service.

Title: Accomplishments Surveys of National Senior Service Corps Programs.

OMB Number: Previously assigned 3045-0049.

Agency Number: None.

Affected Public: Foster Grandparent, Senior Companion, and Retired and Senior Volunteer programs, and staff of agencies and organizations serving as volunteer work stations for volunteers from those programs.

Type of Respondents: Volunteer coordinators in volunteer work stations.

Total Respondents: 2,500.

Frequency: March and April, 2004.

Estimated Total Burden Hours: 1,250 hours total for all respondents/sites.

There are no Capital Costs, Operating Costs and/or Maintenance Costs to report.

Comments submitted in response to this notice will be summarized and/or included in the request for Office of Management and Budget approval of the information collection request; they will also become a matter of public record.

Dated: October 29, 2003.
Nathan Dietz,
Research Associate, Office of Research and Policy Development.

[FR Doc. 03-27632 Filed 11-3-03; 8:45 am]

BILLING CODE 6050-$$-P